DEPARTMENT OF ENERGY

Federal Energy Regulatory Commission

[Project Nos. 12962-002; 12958-002]

Newburgh Hydro, LLC; Uniontown Hydro, LLC; Notice of Teleconference

a. Date and Time of Meeting: Wednesday, May 28, 2014 at 10:00 a.m. (Eastern Daylight Time).

b. FERC Contact: Brandi Sangunett, Phone: (202) 502-8393, Email: brandi.sangunett@ferc.gov.

c. Purpose of Meeting: To discuss the U.S. Fish and Wildlife Service's responses to Commission staff's determinations of effect for federally listed species described in the Multi-Project Environmental Assessment for Hydropower License, for the proposed Uniontown and Newburgh Hydroelectric Projects, issued on March 6, 2014.

d. Proposed Agenda:

1. Introduction

2. Bats

3. Mussels

4. Interior Least Tern

5. Summary

e. All local, state, and federal agencies, Indian tribes, and other interested parties are invited to participate by phone. Please call Brandi Sangunett at (202) 502-8393 by May 21, 2014, to RSVP and to receive specific instructions on how to participate.

Dated: May 7, 2014.
Kimberly D. Bose,
Secretary.

[FR Doc. 2014-11016 Filed 5-13-14; 8:45 am]

BILLING CODE 6717-01-P